ENVIRONMENTAL PROTECTION AGENCY

[ER-FRL-8988-7]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146 or http://www.epa.gov/compliance/nepa/.

An explanation of the ratings assigned to draft environmental impact statements (EISs) was published in FR dated July 17, 2009 (74 FR 34754).

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html.

Including the entire EIS comment letters on the Web site satisfies the Section 309(a) requirement to make EPA's comments on EISs available to the public. Accordingly, after March 31, 2010, EPA will discontinue the publication of this notice of availability of EPA comments in the Federal Register.

Draft EISs

EIS No. 20090368, ERP No. D-NSA-E11071-TN, Y-12 National Security Complex Project, to Support the Stockpile Stewardship Program and to Meet the Mission Assigned to Y-12, Oak Ridge, TN.

Summary: EPA expressed environmental concerns about storage, transportation and disposal of hazardous waste and radioactive wastes. EPA requested additional information about NPDES monitoring. Also, long-term onsite storage and disposition of wastes will need to be addressed as the project progresses. Rating EC2.

EIS No. 20090378, ERP No. D-COE-F09806-MN, NorthMet Project, Proposes to Construct and Operate an Open Pit Mine and Processing Facility, Located in Hoyt Lakes—Babbitt Area of St. Louis County, MN.

Summary: The project as proposed will have satisfactory impacts to surface water and groundwater from acid mine drainage and mobilization of metals and sulfates. The project will also have significant wetland impacts that are not adequately mitigated. In addition, the EIS does not adequately evaluate the fate and transport of pollutants between groundwater, surface water and wetlands, nor does it discuss financial assurance for closure and post-closure care. Rating EU3.

EIS No. 20090386, ERP No. D-BLM-K09811-CA, Ivanpah Solar Electric Generating System (07-AFC-5) Project, Proposal to Construct a 400-mw Megawatt Concentrated Solar Power Tower, Thermal-Electric Power Plant, San Bernardino County, CA.

Summary: EPA expressed environmental concerns about impacts to biological and aquatic resources, air quality and sensitive species. EPA also requested additional information to fully describe the project's purpose and need, broaden the range of alternatives, and further evaluate cumulative impacts from reasonably foreseeable future actions. Rating EC2.

EIS No. 20090394, ERP No. D-USN-K11126-GU, Guam and Commonwealth of the Northern Mariana Islands (CNMI) Military Relocation, Proposed Relocating Marines from Okinawa, Visiting Aircraft Carrier Berthing, and Army Air and Missile Defense Task Force, Implementation, GU.

Summary: EPA identified adverse environmental impacts to Guam's drinking water and wastewater infrastructure from construction workers and induced population growth, and to sensitive coral habitat. The DEIS does not adequately assess the impacts and infrastructure needs of the construction workers and induced growth, and does not include an adequate assessment of the impacts to the coral habitat or an adequate mitigation plan for those impacts. Rating EU3.

EIS No. 20090397, ERP No. D-USA-G39052-00, PROGRAMMATIC—Louisiana Coastal Area (LCA) Beneficial Use of Dredged Material (BUDMAT) Program Study, To Establish the Structure and Management Architecture of the BUDMAT Program, Implementation, MS, TX and LA.

Summary: EPA does not object to the proposed action. Rating LO.

EIS No. 20100008, ERP No. D-GSA-F65079-00, International Falls Land Port of Entry Improvements Study, Proposes to Replace the Existing Land Port of Entry, Minnesota along the U.S. and Canada Border.

Summary: EPA expressed environmental concerns about water quality impacts from stormwater runoff and hazardous materials spills. EPA recommended that appropriate runoff and spills management be incorporated into the project. Rating EC2.

Final EISs

EIS No. 20090437, ERP No. F-COE-E39077-NC, Western Wake Regional Wastewater Management Facilities, Proposed Construction of Regional Wastewater Pumping, Conveyance, Treatment, and Discharge Facilities to Serve the Towns of Apex, Cary, Holly Springs and Morrisville, Research Triangle Park, Wake County, NC.

Summary: EPA expressed concerns about environmental justice impacts and maintaining EPA-approved State of North Carolina Water Quality Standards for Surface Waters.

EIS No. 20100006, ERP No. F-AFS-L65570-00, Rogue River-Siskiyou National Forest, Motorized Vehicle Use, To Enact the Travel Management Rule, Implementation, Douglas, Klamath, Jackson, Curry, Coos and Josephine Counties, OR and Del Norte and Siskiyou Counties, CA.

Summary: EPA expressed environmental concerns about impacts to human health that could result from exposure to naturally occurring asbestos (NOA). EPA recommended that a plan be developed and implemented to address risk from NOA.

EIS No. 20100007, ERP No. F-NOA-B91005-00, Amendment 3 to the Northeast Skate Complex Fishery Management Plan, Implementation of New Management Measures to Rebuild Overfished Skate Stocks, End Overfishing of Skate Fisheries, Gulf of Maine (GOM), Georges Bank (GB), South New England and Mid-Atlantic Regions.

Summary: EPA does not object to the proposed project.

EIS No. 20100011, ERP No. F-AFS-K65376-CA, Eddy Gulch Late-Successional Reserve Fuels/Habitat Protection Project, To Protect Late-Successional Habitat used by the Northern Spotted Owl and Other Late-Successional-Dependent Species, Salmon River and Scott River Ranger District, Klamath National Forest, Siskiyou County, CA.

Summary: EPA's previous issues have been resolved; therefore, EPA does not object to the proposed action.

EIS No. 20100015, ERP No. F-USA-G39052-00, PROGRAMMATIC—Louisiana Coastal Area (LCA) Beneficial Use of Dredged Material (BUDMAT) Program Study, To Establish the Structure and Management Architecture of the BUDMAT Program, Implementation, MS, TX and LA.

Summary: No formal comment letter was sent to the preparing agency.

EIS No. 20100012, ERP No. FS-AFS-K65312-CA, Pilgrim Vegetation Management Project, Updated Information to Address and Respond to the Specific Issues Identified in the Court Ruling. Implementation, Shasta-Trinity National Forest, Siskiyou County, CA.

Summary: EPA expressed environmental concerns about inadvertent exposure to humans and non-target species to the fungicide Sporax and cumulative effects to snag-dependent and late-successional species.

Dated: March 2, 2010.
Robert W. Hargrove,
Director, NEPA Compliance Division, Office of Federal Activities.

[FR Doc. 2010-4701 Filed 3-4-10; 8:45 am]

BILLING CODE 6560-50-P